DEPARTMENT OF THE INTERIOR

Geological Survey

Scientific Earthquake Studies Advisory Committee

AGENCY: U.S. Geological Survey.

ACTION: Notice of meeting.

SUMMARY: Pursuant to Public Law 106-503, the Scientific Earthquake Studies Advisory Committee (SESAC) will hold its eighth meeting. The meeting location is the Teton Mountain Lodge, 3385 West Village Drive, Teton Village, Wyoming 83025. The Committee is comprised of members from academia, industry, and State government. The Committee shall advise the Director of the U.S. Geological Survey (USGS) on matters relating to the USGS's participation in the National Earthquake Hazards Reduction Program.

The Committee will review the overall direction of the U.S. Geological Survey's Earthquake Hazards Program with emphasis on activities in the U.S. Intermountain West region.

Meetings of the Scientific Earthquake Studies Advisory Committee are open to the public.

DATES: Session commencing at 8 a.m. on September 13, 2004, and adjourning at 5:00 p.m. on September 14, 2004.

FOR FURTHER INFORMATION CONTACT: Dr. David Applegate, U.S. Geological Survey, MS 905, 12201 Sunrise Valley Drive, Reston, Virginia 20192, (703) 648-6714.

Dated: August 5, 2004.
P. Patrick Leahy,
Associate Director for Geology.

[FR Doc. 04-19019 Filed 8-18-04; 8:45 am]

BILLING CODE 4310-Y7-M